DEPARTMENT OF HEALTH AND HUMAN SERVICES

Centers for Medicare and Medicaid Services

[Document Identifier: CMS-10060]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request; Title of Information Collection; Form No.: CMS-10060 (OMB# 0938-NEW); Use; This project completion report derives from the Quality Improvement System for Managed Care (QISMC) Standards and Guidelines as required by the Balanced Budget Act of 1997 (as amended by the Balanced Budget Refinement Act of 1999) and the related regations, 42 CFR 422.152. These regulations established QISMC as a requirement for Medicare + Choice (M+C) Organizations by requiring improved health outcomes for enrolled beneficiaries. The provisions of QISMC specify that M+C organizations will implement and evaluate quality improvement projects. The form submitted herein will permit M+C organizations to report their completed projects to CMS in a standardized fashion for evaluation by CMS of the M+C organization's compliance with regulatory provisions. This form will improve consistency and reliability in the CMS evaluation process as well as provide a standardized structure for public use and review; Frequency: Annually; Affected Public: Business or other for-profit, not-for-profit institutions; Number of Respondents: 155; Total Annual Responses: 310; Total Annual Hours: 620-1240 hours.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Melissa Musotto, Room N2-14-26, 7500 Security Boulevard, Baltimore, Maryland 21244-1850.

Dated: February 21, 2002.
John P. Burke, III,
Reports Clearance Officer, Security and Standards Group, Division of CMS Enterprise Standards.

[FR Doc. 02-4969 Filed 3-1-02; 8:45 am]

BILLING CODE 4120-03-U